DEPARTMENT OF VETERANS AFFAIRS

Research Advisory Committee on Gulf War Veterans' Illnesses; Notice of Meeting

The Department of Veterans Affairs (VA) gives notice under the Federal Advisory Committee Act that the Research Advisory Committee on Gulf War Veterans' Illnesses will meet on September 18, 2018 at the Department of Veterans Affairs, 810 Vermont Avenue NW, Washington, DC 20420 in Room 230, at 8:00 a.m. to 3:30 p.m. (EST) on September 18, 2018. All sessions will be open to the public, and for interested parties who cannot attend in person, there is a toll-free telephone number 1 (800) 767-1750; access code 56978#.

The purpose of the Committee is to provide advice and make recommendations to the Secretary of Veterans Affairs on proposed research studies, research plans, and research strategies relating to the health consequences of military service in the Southwest Asia Theater of operations during the Gulf War in 1990-1991.

The Committee will review VA program activities related to Gulf War Veterans' illnesses and updates on relevant scientific research published since the last Committee meeting. Presentations will include updates on the VA Gulf War research program and descriptions and discussions of new areas of research technology and treatments that can be applied to the health problems of Gulf War Veterans. Also, there will be a discussion of Committee business and activities.

The meeting will include time reserved for public comments in the afternoon. A signup sheet for 5-minute comments will be available at the meeting. Individuals who wish to address the Committee may submit a 1-2 page summary of their comments for inclusion in the official meeting record. Members of the public may also submit written statements for the Committee's review to Dr. Karen Block by email at karen.block@va.gov.

Any member of the public seeking additional information should contact Dr. Block, Designated Federal Officer, at (202) 443-5600.

Dated: July 27, 2018.
LaTonya L. Small,
Federal Advisory Committee Management Officer.

[FR Doc. 2018-16472 Filed 7-31-18; 8:45 am]

BILLING CODE 8320-01-P